DEPARTMENT OF HEALTH AND HUMAN SERVICES

Administration for Children and Families

Agency Recordkeeping/Reporting Requirements Under Emergency Review by the Office of Management and Budget (OMB)

Title: April 2000 Current Population Survey Supplement on Child Support.

OMB No.: 0992-0003.

Description: Collection of these data will assist legislators and policymakers in determining how effective their policymaking efforts have been over time in applying the various child support legislation to the overall child support enforcement picture. This information will help policymakers determine to what extent individuals on welfare would be removed from the welfare rolls as a result of more stringent child support enforcement efforts.

Respondents: Individuals.

Annual Burden Estimates
Instrument | Number of respondents | Number of responses per respondent | Average burden hours per response | Total burden hours
Survey | 47,000 | 1 | .0241 | 1,136

Estimated Total Annual Burden Hours: 1,136.

Additional Information: ACF is requesting that OMB grant a 180 day approval for this information collection under procedures for emergency processing by April 1, 2000. A copy of this information collection, with applicable supporting documentation, may be obtained by calling the Administration for Children and Families, Reports Clearance Officer, Bob Sargis at (202) 401-6465 or e-mail at rsargis@acf.dhhs.gov.

Comments and questions about the information collection described above should be directed to the following by April 1, 2000: Office of Information and Regulatory Affairs, Attn: OMB Desk Officer for ACF, Office of Management and Budget, Paperwork Reduction Project, 725 17th Street NW, Washington, DC 20503, (202) 395-7316.

Dated: February 3, 2000.
Bob Sargis,
Reports Clearance Officer.

[FR Doc. 00-2866 Filed 2-8-00; 8:45 am]

BILLING CODE 4184-01-M